DEPARTMENT OF COMMERCE

Foreign-Trade Zones Board

[B-19-2020]

Foreign-Trade Zone (FTZ) 77—Memphis, Tennessee; Notification of Proposed Production Activity; ISK Biosciences Corporation (Agricultural Chemicals); Memphis, Tennessee

The City of Memphis, grantee of FTZ 77, submitted a notification of proposed production activity to the FTZ Board on behalf of ISK Biosciences Corporation (ISK Biosciences), located in Memphis, Tennessee. The notification conforming to the requirements of the regulations of the FTZ Board (15 CFR 400.22) was received on March 12, 2020.

ISK Biosciences' facility is located within Subzone 77I. The facility is used for the production of agricultural chemicals. Pursuant to 15 CFR 400.14(b), FTZ activity would be limited to the specific foreign-status materials and components and specific finished products described in the submitted notification (as described below) and subsequently authorized by the FTZ Board.

Production under FTZ procedures could exempt ISK Biosciences from customs duty payments on the foreign-status components used in export production. On its domestic sales, for the foreign-status materials/components noted below, ISK Biosciences would be able to choose the duty rates during customs entry procedures that apply to: Fluazinam SC 50%; Altima Fluazinam SC 50%; Allegro 500F fungicide; Secure fungicide; Shirlan 500 SC; Altima 500 SC; Shogun 50% WS; Shogun 50% SL and Fluazinam 500F fungicide; Omega and Omega 500 flowable; technical fluazinam fungicide; Ranman 400SC fungicide; Ranman 40SC and Ranman 40 SC; Bulk Cyazofamid 400SC; Cyazofamid 40% SC; Ranman fungicide; Segway herbicide; Segway O fungicide; Torrent herbicide; cyazofamid and cymoxanil pre-mixture; Pyriofenone 300SC fungicide; Property 300SC fungicide; Property 300 SC; Property fungicide; Prolivo fungicide; Isofetamid 400SC fungicide; bulk isofetamid 400SC; Kenja 400SC fungicide; Kabuto herbicide; Kenja herbicide; Isofetamid 400SC fungicide/Kryor 400SC; Astun fungicide; Fervent 475SC; Harvanta insecticide; Harvanta 50SL insecticide; Harvanta PRO; Cyclaniliprole 50SL insecticide; Cyclaniliprole 100SL insecticide; Verdepryn Insecticide; Sarisa insecticide; and, Pradia insecticide (duty rate ranges from 5% to 6.5%). ISK Biosciences would be able to avoid duty on foreign-status components which become scrap/waste. Customs duties also could possibly be deferred or reduced on foreign-status production equipment.

The components and materials sourced from abroad include technical cyazofamid, isofetamid, pyriofenone, cyclaniliprole and fluazinam (duty rate 6.5%). The request indicates that the materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is May 6, 2020.

A copy of the notification will be available for public inspection in the “Reading Room” section of the Board's website, which is accessible via www.trade.gov/ftz.

For further information, contact Christopher Wedderburn at Chris.Wedderburn@trade.gov or (202) 482-1963.

Dated: March 23, 2020.
Andrew McGilvray,
Executive Secretary.

[FR Doc. 2020-06360 Filed 3-26-20; 8:45 am]

BILLING CODE 3510-DS-P